DEPARTMENT OF TRANSPORTATION

Bureau of Transportation Statistics

Reports, Forms and Recordkeeping Requirements; Activity Under OMB Review; Passenger Origin-Destination Survey Report

AGENCY: Bureau of Transportation Statistics (BTS), DOT.

ACTION: Notice.

SUMMARY: In compliance with the Paperwork Reduction Act of 1995 (44 U.S.C. 3501 et seq.), this notice announces that the Information Collection Request (ICR) abstracted below has been forwarded to the Office of Management and Budget (OMB) for extension of currently approved collections. The ICR describes the nature of the information collection and its expected burden. The Federal Register Notice with a 60-day comment period soliciting comments on the following collection of information was published on May 19, 2003 (68 FR 27143).

DATES: Written comments should be submitted by September 17, 2003.

FOR FURTHER INFORMATION CONTACT: Bernie Stankus, Office of Airline Information, K-14, Room 4125, Bureau of Transportation Statistics, 400 Seventh Street, SW., Washington, DC 20590-0001, Telephone Number (202) 366-4387, Fax Number (202) 366-3383 or EMAIL bernard.stankus@bts.gov.

Comments: Comments are invited on whether the proposed collection of information is necessary for the proper performance of the functions of the Department, including whether the information will have practical utility; the accuracy of the Department's estimate of burden of the proposed information collections; ways to enhance the quality, utility, and clarity of the information on respondents, in including the use of automated collection techniques of other forms of information technology.

ADDRESSES: Send comments to the Office of Information and Regulatory Affairs, Office of Management and Budget, 725 17th Street, NW., Washington, DC 20503, Attention: BTS Desk Officer.

SUPPLEMENTARY INFORMATION:

Bureau of Transportation Statistics (BTS)

Title: Passenger Origin-Destination Survey report.

Type of Request: Extension of a currently approved collection.

OMB Control Number: 2139-0001.

Forms: None.

Affected Public: Large certificated air carriers, that provide scheduled passenger service.

Number of Respondents: 32.

Number of Annual responses: 128.

Estimated Time per Response: 240 hours.

Total Annual Burden: 30,720 hours.

Needs and Uses: Program uses for Form 41 data are as follows:

Needs and Uses: Survey data are used in monitoring the airline industry, negotiating international agreements, selecting new international routes, and selecting U.S. carriers to operate limited entry international routes.

The Confidential Information Protection and Statistical Efficiency Act of 2002 (44 U.S.C. 3501 note), requires a statistical agency to clearly identify information it collects for non-statistical purposes. BTS hereby notifies the respondents and the public that BTS uses the information it collects under this OMB approval for non-statistical purposes including, but not limited to, publication of both Respondent's identity and its data, submission of the information to agencies outside BTS for review, analysis and possible use in regulatory and other administrative matters.

Issued on August 12, 2003.
Donald W. Bright,
Assistant Director, Airline Information, Bureau of Transportation Statistics.

[FR Doc. 03-21111 Filed 8-15-03; 8:45 am]

BILLING CODE 4910-FE-P